SMALL BUSINESS ADMINISTRATION

13 CFR Part 105

RIN 3245-AF24

Standards of Conduct and Employee Restrictions and Responsibilities

AGENCY: U.S. Small Business Administration.

ACTION: Direct final rule.

SUMMARY: The Small Business Administration (SBA) amends its regulations governing employee standards of conduct by deleting references to Supplemental Standards of Ethical Conduct and revising the descriptions of the headings for Office of the Government Ethics (OGE) regulations. The effect of these amendments is to make SBA's Standards of Conduct and Employee Restrictions and Responsibilities a more precise statement of existing authorities applicable to the ethical conduct of SBA employees.

DATES: This direct final rule is effective January 3, 2005, without further action, unless adverse comment is received by December 3, 2004. If adverse comment is received, SBA will publish a timely withdrawal of the direct final rule in the Federal Register.

ADDRESSES: You may submit comments, identified by RIN number, by any of the following methods: (1) Federal eRulemaking Portal: http://www.regulations.gov; (2) e-mail: robert.gangwere@sba.gov. Include RIN number in the subject line of the message; (3) Fax: (202) 481-5275; (4) mail: Robert L. Gangwere, Deputy General Counsel, Office of General Counsel, U.S. Small Business Administration, 409 3rd Street, SW., Washington, DC 20416; (5) hand delivery/courier: 409 3rd Street, SW., Washington, DC 20416.

FOR FURTHER INFORMATION CONTACT: Susan L. Sundberg, Alternate Designated Agency Ethics Official, Office of General Counsel, U.S. Small Business Administration, 409 3rd Street, SW., Washington, DC 20416; (202) 619-0585; e-mail: susan.sundberg@sba.gov.

SUPPLEMENTARY INFORMATION: SBA issued regulations governing employee standards of conduct on January 26, 1996, at 61 FR 2399 based on its independent authority under the Small Business Act, 15 U.S.C. 631 et seq., and Executive Order 11222, May 8, 1965. According to 5 CFR 2635.105, an agency may also issue regulations that supplement OGE's regulations on standards of conduct for Executive branch employees, which the agency determines are necessary and appropriate in view of its programs and operations. Although SBA's standards of conduct regulations currently make general and specific references to supplemental regulations, SBA has no current plans to issue such supplemental regulations. Therefore, it is necessary to amend the regulations so as not to imply that such supplemental regulations exist. The current regulations also cross-reference two parts of OGE's regulations, 5 CFR part 2634 and 5 CFR part 2635, and describe them as the Uniform Financial Disclosure regulations and the Uniform Standards of Ethical Conduct for Executive Branch employees, respectively. This direct final rule will revise these descriptions to make them consistent with the actual headings used by OGE in its regulations.

SBA is publishing this rule as a direct final rule because the Agency believes that this rule is non-controversial; it merely makes the Agency's regulations consistent with existing authorities. SBA expects no adverse comments on this rule. If, however, adverse comments are received, SBA will publish a timely notice of withdrawal in the Federal Register.

Section-by-Section Analysis

Section 105.101 notifies employees that 5 CFR part 2635 codifies the “Uniform Standards of Ethical Conduct for Executive Branch employees” and that 5 CFR part 2634 codifies the “Uniform Financial Disclosure regulation for Executive Branch employees.” Because these headings do not accurately reflect the headings found at 5 CFR parts 2634 and 2635, this direct final rule amends § 105.101 to indicate the accurate headings for these OGE regulations. Section 105.101 also refers employees to SBA Supplemental Standards of Ethical Conduct at 5 CFR XLIV. This direct final rule deletes that reference because such regulations do not exist.

Section 105.402 identifies the Designated Agency Ethics Official as the official who serves as SBA's Standards of Conduct Counselor, delegates authority to that official to designate Assistant Standards of Conduct Counselors, and describes their responsibilities under OGE and SBA regulations, including SBA's supplemental regulations. Paragraph (b)(4) of this section will be removed in order to delete the provision directing standards of conduct counselors to rely on SBA's Supplemental Standards of Ethical Conduct in making decisions on outside employment. SBA will also make minor grammatical changes to this section to improve clarity.

Compliance With Executive Orders 13132, 12988 and 12866, the Regulatory Flexibility Act (5 U.S.C. 601-612) and the Paperwork Reduction Act (44 U.S.C. Ch. 35)

This direct final rule will not have substantial direct effects on the States, on the relationship between the national Government and the States, or on the distribution of power and responsibilities among the various levels of Government. Therefore, for the purposes of Executive Order 13132, SBA determines that this direct final rule has no federalism implications warranting preparation of a federalism assessment.

This direct final rule meets applicable standards set forth in sections 3(a) and 3(b)(2) of Executive Order 12988, Civil Justice Reform, to minimize litigation, eliminate ambiguity, and reduce burden. The direct final rule does not have retroactive or preemptive effect.

The Office of Management and Budget (OMB) has determined that this direct final rule does not constitute a significant regulatory action under Executive Order 12866.

SBA certifies that this direct final rule will not have a significant economic impact on a substantial number of small entities within the meaning of the Regulatory Flexibility Act, 5 U.S.C. 601-612 because the direct final rule applies to SBA employees, not small entities.

SBA has determined that this direct final rule will not impose any new reporting or recordkeeping requirements under the Paperwork Reduction Act, 44 U.S.C. Ch. 35.

List of Subjects in 13 CFR Part 105

Conflicts of interest, Conduct standards, Ethical conduct, Financial disclosure, Government employees.

For the reasons stated in the preamble, SBA amends 13 CFR part 105 as follows:

PART 105—STANDARDS OF CONDUCT AND EMPLOYEE RESTRICTIONS AND RESPONSIBILITIES

1. The authority citation for part 105 continues to read as follows:

Authority: 5 U.S.C. 7301; 15 U.S.C. 634, 637(a)(18) and (a)(19), 642 and 645(a).

2. Revise § 105.101 to read as follows:

§ 105.101 Cross-reference to employee ethical conduct standards and financial disclosure regulations.

In addition to this part, Small Business Administration (SBA) employees should refer to the Standards of Ethical Conduct for Employees of the Executive Branch at 5 CFR part 2635 and the regulations at 5 CFR part 2634 entitled, Executive Branch Financial Disclosure, Qualified Trusts and Certificates of Divestiture.

3. Amend § 105.402 by revising paragraphs (b) (2) and (b) (3) and removing paragraph (b) (4) to read as follows:

§ 105.402 Standards of Conduct Counselors.

* * * * *

(b) * * *

(2) Monitor the Standards of Conduct Program within their assigned areas and provide required reports thereon; and

(3) Review Confidential Financial Disclosure reports as required under 5 CFR part 2634, subpart I, and provide an annual report on compliance with filing requirements to the SBA Standards of Conduct Counselor as of February 1 of each year.

* * * * *

Hector V. Barreto,
Administrator.

[FR Doc. 04-24498 Filed 11-2-04; 8:45 am]

BILLING CODE 8025-01-P